DEPARTMENT OF TRANSPORTATION

Federal Aviation Administration

14 CFR Part 39

[Docket No. FAA-2006-24365; Directorate Identifier 2006-NM-022-AD; Amendment 39-14641; AD 2006-12-15]

RIN 2120-AA64

Airworthiness Directives; Bombardier Model DHC-8-400 Series Airplanes

AGENCY: Federal Aviation Administration (FAA), Department of Transportation (DOT).

ACTION: Final rule.

SUMMARY: The FAA is adopting a new airworthiness directive (AD) for certain Bombardier Model DHC-8-400 series airplanes. This AD requires repetitive inspections for cracks of the first fuel access panel outboard of the nacelle on the left- and right-hand wings, and related investigative/corrective actions if necessary. This AD also requires eventual replacement of each access panel with a new access panel having a new part number. The replacement terminates the repetitive inspection requirements. This AD results from reports of cracks of the fuel access panels. We are issuing this AD to detect and correct cracked fuel access panels, which could lead to arcing and ignition of fuel vapor during a lightning strike, and result in fuel tank explosions and consequent loss of the airplane.

DATES: This AD becomes effective July 18, 2006.

The Director of the Federal Register approved the incorporation by reference of a certain publication listed in the AD as of July 18, 2006.

ADDRESSES: You may examine the AD docket on the Internet at http://dms.dot.gov or in person at the Docket Management Facility, U.S. Department of Transportation, 400 Seventh Street, SW., Nassif Building, Room PL-401, Washington, DC.

Contact Bombardier, Inc., Bombardier Regional Aircraft Division, 123 Garratt Boulevard, Downsview, Ontario M3K 1Y5, Canada, for service information identified in this AD.

FOR FURTHER INFORMATION CONTACT: George Duckett, Aerospace Engineer, Airframe and Propulsion Branch, ANE-171, New York Aircraft Certification Office, FAA, 1600 Stewart Avenue, Suite 410, Westbury, New York 11590; telephone (516) 228-7325; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model DHC-8-400 series airplanes. That NPRM was published in the Federal Register on April 11, 2006 (71 FR 18239). That NPRM proposed to require repetitive inspections for cracks of the first fuel access panel outboard of the nacelle on the left- and right-hand wings, and related investigative/corrective actions if necessary. That NPRM also proposed to require eventual replacement of each access panel with a new access panel having a new part number. The replacement would terminate the repetitive inspection requirements.

Comments

We provided the public the opportunity to participate in the development of this AD. We received no comments on the NPRM or on the determination of the cost to the public.

Conclusion

We have carefully reviewed the available data and determined that air safety and the public interest require adopting the AD as proposed.

Costs of Compliance

The following table provides the estimated costs for U.S. operators to comply with this AD.

Estimated Costs
Action | Work hours | Average labor per rate hour | Parts | Cost per airplane | Number of U.S.-registered airplanes | Fleet cost
Inspection, per inspection cycle | 1 | $80 | (¹) | $80 | 5 | ² $400
Replacement (for both wings) | 4 | 80 | 8,200 | 8,520 | 5 | 42,600
¹ None.
² Per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-12-15 Bombardier, Inc. (Formerly de Havilland, Inc.): Amendment 39-14641. Docket No. FAA-2006-24365; Directorate Identifier 2006-NM-022-AD.

Effective Date

(a) This AD becomes effective July 18, 2006.

Affected ADs

(b) None.

Applicability

(c) This AD applies to Bombardier Model DHC-8-400, DHC-8-401, and DHC-8-402 airplanes, certificated in any category; serial numbers 4001, and 4003 through 4106 inclusive.

Unsafe Condition

(d) This AD results from reports of cracks of the fuel access panels. We are issuing this AD to detect and correct cracked fuel access panels, which could lead to arcing and ignition of fuel vapor during a lightning strike, and result in fuel tank explosions and consequent loss of the airplane.

Compliance

(e) You are responsible for having the actions required by this AD performed within the compliance times specified, unless the actions have already been done.

Inspection and Related Investigative and Corrective Actions

(f) Within 400 flight hours after the effective date of this AD: Do an ultrasonic inspection for cracks of the first fuel access panel, part number (P/N) 85714230-001, outboard of the nacelle, on the left- and right-hand wings, by doing all of the actions specified in the Accomplishment Instructions of Bombardier Service Bulletin 84-57-13, dated August 17, 2005, except as provided by paragraph (i) of this AD. Do all applicable related investigative and corrective actions before further flight in accordance with the service bulletin. Repeat the applicable inspection, including the detailed inspection, thereafter at intervals not to exceed 1,200 flight hours.

Note 1: Bombardier Service Bulletin 84-57-13, refers to Bombardier Repair Drawing (RD) 8/4-57-451, dated February 2005, as an additional source of service information for doing certain corrective actions.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Terminating Action—Replacement

(g) Within 6,000 flight hours after the initial inspection done in accordance with paragraph (f) of this AD: Replace any access panel P/N 85714230-001, with a new panel P/N 85714230-003 or P/N 85714230-005. Do the replacement in accordance with the Accomplishment Instructions of Bombardier Service Bulletin 84-57-13, dated August 17, 2005. Replacing one access panel terminates the repetitive inspection requirements of this AD for that panel only. Replacing both access panels terminates all repetitive inspection requirements of this AD.

Parts Installation

(h) As of the effective date of this AD, no person may install a fuel access panel, P/N 85714230-001, on any airplane unless the panel has been inspected, and all applicable related investigative and corrective actions have been accomplished, in accordance with paragraph (f) of this AD.

No Report Required

(i) Although the Accomplishment Instructions of Bombardier Service Bulletin 84-57-13, dated August 17, 2005, specify to report certain information to the manufacturer, this AD does not include that requirement.

Alternative Methods of Compliance (AMOCs)

(j)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Canadian airworthiness directive CF-2005-37, dated October 11, 2005, also addresses the subject of this AD.

Material Incorporated by Reference

(l) You must use Bombardier Service Bulletin 84-57-13, dated August 17, 2005, to perform the actions that are required by this AD, unless the AD specifies otherwise. The Director of the Federal Register approved the incorporation by reference of this document in accordance with 5 U.S.C. 552(a) and 1 CFR part 51. Contact Bombardier, Inc., Bombardier Regional Aircraft Division, 123 Garratt Boulevard, Downsview, Ontario M3K 1Y5, Canada, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on June 5, 2006.
Kalene C. Yanamura,
Acting Manager, Transport Airplane Directorate, Aircraft Certification Service.

[FR Doc. 06-5285 Filed 6-12-06; 8:45 am]

BILLING CODE 4910-13-P